DEPARTMENT OF ENERGY

Federal Energy Regulatory Commission

Combined Notice of Filings #1

Take notice that the Commission received the following electric corporate filings:

Docket Numbers: EC15-29-000.

Applicants: Burley Butte Wind Park, LLC, Golden Valley Wind Park, LLC, Milner Dam Wind Park, LLC, Oregon Trail Wind Park, LLC, Pilgrim Stage Station Wind Park, LLC, Thousand Springs Wind Park, LLC, Tuana Gulch Wind Park, LLC, Camp Reed Wind Park, LLC, Payne's Ferry Wind Park, LLC, Salmon Falls Wind Park, LLC, Yahoo Creek Wind Park, LLC.

Description: Application for Authorization for Disposition of Jurisdictional Facilities and Request for Expedited Action and Abbreviated Comment Period of Burley Butte Wind Park, LLC, et. al.

Filed Date: 11/10/14.

Accession Number: 20141110-5278.

Comments Due: 5 p.m. ET 12/1/14.

Take notice that the Commission received the following electric rate filings:

Docket Numbers: ER10-2480-003; ER10-2924-004; ER10-2964-005; ER11-2041-005; ER11-2042-005; ER10-3193-004; ER10-2959-005; ER10-2934-004; ER10-2961-004; ER10-2950-004; ER12-281-006; ER13-821-006.

Applicants: Berkshire Power Company, LLC, Kleen Energy Systems, LLC, Selkirk Cogen Partners, L.P., Innovative Energy Systems, LLC, Seneca Energy II, LLC, Brooklyn Navy Yard Cogeneration Partners, L.P., Chambers Cogeneration, Limited Partnership, Logan Generating Company, L.P., Edgecombe Genco, LLC, Spruance Genco, LLC, Northampton Generating Company, L.P., Scrubgrass Generating Company, L.P.

Description: Supplement to June 30, 2014 Order No. 697 Triennial Compliance Filing of Berkshire Power Company, LLC, et. al.

Filed Date: 11/10/14.

Accession Number: 20141110-5089.

Comments Due: 5 p.m. ET 12/1/14.

Docket Numbers: ER14-2679-001.

Applicants: Southern California Edison Company.

Description: Tariff Amendment per 35.17(b): SCE's Response to Deficiency re Service Agmt with City of Moreno Valley to be effective 8/21/2014.

Filed Date: 11/10/14.

Accession Number: 20141110-5226.

Comments Due: 5 p.m. ET 12/1/14.

Docket Numbers: ER15-372-000.

Applicants: PJM Interconnection, L.L.C.

Description: § 205(d) rate filing per 35.13(a)(2)(iii): Service Agreement No. 1141; Queue No. Y2-054 to be effective 10/10/2014.

Filed Date: 11/10/14.

Accession Number: 20141110-5270.

Comments Due: 5 p.m. ET 12/1/14.

Docket Numbers: ER15-373-000.

Applicants: PacifiCorp.

Description: § 205(d) rate filing per 35.13(a)(2)(iii): USBR NITSA Rev 2 to be effective 11/1/2014.

Filed Date: 11/12/14.

Accession Number: 20141112-5022.

Comments Due: 5 p.m. ET 12/3/14.

Docket Numbers: ER15-374-000.

Applicants: PJM Interconnection, L.L.C.

Description: § 205(d) rate filing per 35.13(a)(2)(iii): Service Agreement No. 4039; Queue No. S37 to be effective 10/14/2014.

Filed Date: 11/12/14.

Accession Number: 20141112-5028.

Comments Due: 5 p.m. ET 12/3/14.

Docket Numbers: ER15-374-000.

Applicants: PJM Interconnection, L.L.C.

Description: Report Filing: Errata to Transmittal Letter for SA No. 4039; Queue No. S37 to be effective N/A.

Filed Date: 11/12/14.

Accession Number: 20141112-5031.

Comments Due: 5 p.m. ET 12/3/14.

Docket Numbers: ER15-375-000.

Applicants: AEP Texas Central Company.

Description: § 205(d) rate filing per 35.13(a)(2)(iii): TCC-Apex Midway Wind First Amended & Restated IA to be effective 10/20/2014.

Filed Date: 11/12/14.

Accession Number: 20141112-5156.

Comments Due: 5 p.m. ET 12/3/14.

Docket Numbers: ER15-376-000.

Applicants: Calpine Energy Services, L.P.

Description: Request for Limited Waiver of Calpine Energy Services, L.P.

Filed Date: 11/12/14.

Accession Number: 20141112-5166.

Comments Due: 5 p.m. ET 12/3/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 12, 2014.
Nathaniel J. Davis, Sr.,
Deputy Secretary.

[FR Doc. 2014-27387 Filed 11-18-14; 8:45 am]

BILLING CODE 6717-01-P